SMALL BUSINESS ADMINISTRATION

Generic Clearance for Formative Data Collections for Evaluation, Research, and Evidence-Building

ACTION: 60-Day notice of information collection and request for comments.

SUMMARY: The Small Business Administration (SBA) intends to request approval from the Office of Management and Budget (OMB) for a generic clearance to allow the SBA to conduct a variety of formative data collections with more than nine respondents. The formative evaluation, research, and other evidence-building data collections will inform future studies but will not be highly systematic nor intended to be statistically representative. Findings from these formative studies will not be generalized to the broader population and are not intended to inform major decisions. In compliance with the Paperwork Reduction Act (PRA) of 1995, the SBA is soliciting public comment on the specific aspects of the information collection described above.

DATES: Submit comments on or before March 14, 2022.

ADDRESSES: Send all comments to Shay Meinzer, Lead Program Evaluator, shay.meinzer@sba.gov.

FOR FURTHER INFORMATION CONTACT: Shay Meinzer, Lead Program Evaluator, Office of Program Performance, Analysis, and Evaluation, Small Business Administration, shay.meinzer@sba.gov, 202-539-1429, or Curtis B. Rich, Management Analyst, 202-205-7030, curtis.rich@sba.gov.

SUPPLEMENTARY INFORMATION: The SBA intends to design and conduct evidence-building activities of SBA programs. SBA's evidence-building activities include formative evaluations of existing programs, process, and new initiatives; logic model development and testing; process or journey mapping; research syntheses; survey, questionnaire, and metric development; analysis; and foundational fact-finding through descriptive and exploratory studies.

Under this generic clearance, the SBA would engage in a variety of formative and exploratory data collections with SBA grantees, program and potential program providers and participants, researchers, practitioners, and other stakeholders to fulfill the following goals:

• Maintain a rigorous and relevant evaluation and research agenda,

• inform the development of SBA's evidence-building activities,

• inform the delivery of targeted assistance and workflows related to program and grantee processes,

• inform the development and refinement of recordkeeping and communication systems,

• plan for provision of programmatic or evidence-capacity-related training or technical assistance,

• obtain grantee or stakeholder input on the development or refinement of program logic models, evaluations, and performance measures, and

• test activities to strengthen programs in preparation for summative evaluations.

The SBA envisions using a variety of techniques including but not limited to semi-structured small group discussions or focus groups, questionnaires and surveys, interviews (e.g., in-person, video, and telephone), and cognitive interviews (e.g., in-person, video and audio collections) to reach these goals. Participation in formative data collections is strictly voluntary, and personal identifiable information is not collected.

Following standard OMB requirements, the SBA will submit a change request for each individual data collection activity under this generic clearance. Each request will include the individual instrument(s), a justification, and any supplementary documents specific to the unique information collection. OMB should review within 10 days of receiving each change request.

The information collected in this effort will not be the primary subject of any published SBA reports. However, information may be made public through methodological appendices or footnotes, reports on instrument development, instrument user guides, descriptions of respondent behavior, and other publications or presentations describing findings of methodological interest. When necessary, results will be labeled as formative or exploratory. The aggregated results of this work may be prepared for presentation at professional meetings or disseminated in evaluation reports, research papers, and professional journals.

Respondents: The populations to be studied include SBA grantees, program and potential program providers and participants, researchers, practitioners, and other stakeholder groups involved in SBA programs, experts in fields pertaining to SBA evaluation and research, or others involved in conducting SBA evaluation, research, or evidence-building projects.

Annual Burden Estimate
Description of data collection method | Estimated number of respondents | Frequency of response | Estimated annual responses | Estimated average minutes/ response | Estimated annual hour burden
Small group discussions or focus groups | 240 | 1 | 240 | 90 | 360
Surveys or questionnaires | 450 | 1 | 450 | 30 | 225
Interviews | 135 | 1 | 135 | 60 | 135
Cognitive interviews | 75 | 1 | 75 | 90 | 112.5
Total | 900 |  | 900 |  | 832.5

Solicitation of public comments: The SBA requests comments on (a) whether the collection of information is necessary for the agency to perform its functions properly; (b) whether the burden estimates are accurate; (c) whether there are ways to minimize the burden, including through the use of automated techniques or other forms of information technology; and (d) whether there are ways to enhance the quality, utility, and clarity of the information collected. Comments submitted in response to this notice will be summarized and/or included in the request for OMB approval of this information collection; they also will become a matter of public record.

Curtis B. Rich,
Management Analyst.

[FR Doc. 2022-00564 Filed 1-12-22; 8:45 am]

BILLING CODE 8026-03-P